DEPARTMENT OF HOUSING AND URBAN DEVELOPMENT

[Docket No. FR-5100-FA-10]

Announcement of Funding Awards for Fiscal Year 2007; Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year (FY) 2007 Historically Black Colleges and Universities Program. The purpose of this document is to announce the names, addresses and the amount awarded to the winners to be used to help Historically Black Colleges and Universities (HBCUs) expand their role and effectiveness in addressing community development needs in their localities, consistent with the purposes of Title I of the Housing and Development Act of 1974, as amended.

FOR FURTHER INFORMATION CONTACT: Susan Brunson, Office of University Partnerships, U.S. Department of Housing and Urban Development, 451 Seventh Street, SW., Room 8106, Washington, DC 20410, telephone (202) 402-3852. To provide service for persons who are hearing-or-speech-impaired, this number may be reached via TTY by Dialing the Federal Information Relay Service on (800) 877-8339 or (202) 708-1455. (Telephone number, other than “800” TTY numbers are not toll free).

SUPPLEMENTARY INFORMATION: The Historically Black Colleges and Universities Program was approved by Congress under the Revised Continuing Appropriations Resolution, 2007 and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation, property demolition or acquisition, public facilities, economic development, business entrepreneurship, and fair housing programs.

The Catalog Federal Domestic Assistance number for this program is 14.520.

On March 13, 2007 (72 FR 11468), HUD published a Notice of Funding Availability (NOFA) announcing the availability of approximately $8.9 million of which up to $1 million has been allocated for technical assistance, therefore, $7.9 million, plus an additional $464,600 that was carried over was available this year for funding grants under this program. The maximum amount an applicant could be awarded this year is $600,000 for a three-year (36 months) grant performance period. Of this amount, approximately $1.8 million is available to HBCU applicants that had not been funded in the past and $6.5 million is available to fund HBCU applicants that had been previously funded. Fifty applications were received from HBCUs in response to this program NOFA; however, two were disqualified because they were determined not to be eligible applicants. All applications received were from applicants that been previously funded.

The Department reviewed, evaluated, and scored the applications received based on the criteria in the NOFA. As a result, HUD has funded the applications below, and in accordance with section 102(a)(4)(C) of the Department of Housing and Urban Development Reform Act of 1989 (103 Stat. 1987, 42 U.S.C. 3545), is publishing a list of grantees and amount of awards.

List of Awardees for Grant Assistance Under the FY 2007 Historically Black Colleges and Universities Program Funding Competition, by Institution, Address, and Grant Amount

Region III

1. Coppin State University, Mr. James Roberts, Coppin State University, 2500 West North Avenue, Baltimore, MD 21216. Grant: $599,522.

Region IV

2. LeMoyne-Owens College, Mr. Jeffrey Higgs, LeMoyne-Owens College, 802 Walker Avenue, Suite 5, Memphis, TN 38126. Grant: $600,000.

3. Winston-Salem State University, Ms. Valerie Howard, Winston-Salem State University, 601 South Martin Luther King Jr. Drive, Winston-Salem, NC 27110. Grant: $600,000.

4. Clinton Junior College, Mr. Mickey Beckham, Clinton Junior College, 1029 Crawford Road, Rock Hill, SC 29730. Grant: $600,000.

5. Benedict College, Dr. David Swinton, Benedict College, 1600 Harden Street, Columbia, SC 29204. Grant: $600,000.

6. South Carolina State University, Ms. Merlin Jackson, South Carolina State University, 300 College Street, NE, Orangeburg, SC 29117. Grant: $600,000.

7. Tennessee State University, Ms. Ginger Hausser Pepper, Tennessee State University, 3500 John A. Merritt Blvd., Nashville, TN 37209. Grant: $584,119.

8. Tuskegee University, Mrs. Danette Hall, Tuskegee University, Carnegie Hall 4th Floor, Tuskegee, AL 36088. Grant: $600,000.

9. Johnson C. Smith, Dr. Diane Bowles, Johnson C. Smith, 100 Beatties Ford Road, Charlotte, NC 28216. Grant: $600,000.

10. Hinds Community College-Utica Campus, Mr. Bobby Pamplin, Hinds Community College-Utica Campus, 34175 Hwy 18 West, Utica, MS 39175. Grant: $592,382.

11. Rust College, Dr. David Beckley, Rust College, 150 Rust Avenue, Holly Springs, MS 38635. Grant: $598,577.

Region VI

12. Dillard University, Mr. Theodore Callier, Dillard University, 2601 Gentilly Blvd. New Orleans, LA 70112. Grant: $600,000.

13. Southern University at Shreveport, Mrs. Janice Sneed, Southern University at Shreveport, 3050 Martin Luther King Jr. Drive, Shreveport, LA 71107. Grant: $600,000.

Region VI

14. Texas Southern University, Ms. Ella Nunn, Texas Southern University, 3100 Cleburne Avenue, Houston, TX 77004. Grant: $600,000.

Dated: September 13, 2007.
Darlene F. Williams,
Assistant Secretary for Policy Development and Research.

[FR Doc. E7-19288 Filed 9-28-07; 8:45 am]

BILLING CODE 4210-67-P